DEPARTMENT OF HEALTH AND HUMAN SERVICES

Centers for Medicare and Medicaid Services

[Document Identifier: CMS-10085]

Emergency Clearance: Public Information Collection Requirements Submitted to the Office of Management and Budget (OMB) and Solicitation of Applications

Agency: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with the Trade Act of 2002. We cannot reasonably comply with the normal clearance procedures because of an unanticipated event and public harm.

A part of the President's New Freedom Initiative and Executive Order 13217, the Demonstration to Improve the Direct Service Workforce presents an opportunity for States and community organizations to improve the recruitment and retention of direct service workers. The Centers for Medicare and Medicaid Services is the agency within the Department of Health and Human Services charged with developing and administering this program.

For FY 2003, $9 million dollars was budgeted to fund this demonstration program and an additional $3 million is expected to be budgeted for FY 2004. Because funding for this demonstration appears as part of the FY 2003 budget, it is necessary to award grants to States and community-based organizations before October 1, 2003.

We need to seek emergency approval because we need three months between the time that applicants must submit their proposals and the time of award. Overall we are expecting a large volume of grant applications. We will need the three months to sort, review and score the awards and prepare award packages.

CMS is requesting OMB review and approval of this collection by April 21, 2003, with a 180-day approval period. Written comments and recommendations will be accepted from the public if received by the individuals designated below by April 7, 2003. During this 180-day period, we will publish a separate Federal Register notice announcing the initiation of an extensive 60-day agency review and public comment period on these requirements. We will submit the requirements for OMB review and an extension of this emergency approval.

Type of Information Request: New collection; Type of Information Collection: Medicaid Program: Demonstration To Improve the Direct Service Workforce; CMS Form Number: CMS-10085 (OMB# 0938-NEW); Use: Executive Order 13217, “Community-Based Alternatives for Individuals with Disabilities” provides for the establishment of grants for states and community groups that develop and implement demonstration programs designed to increase the pool of direct care service workers, who help support people with disabilities in the community, through recruitment and retention strategies. State agencies and community groups will be applying for these grants; Frequency: On occasion; Affected Public: State, local, or tribal government; Not-for-profit institutions; Number of Respondents: 15; Total Annual Responses: 15; Total Annual Burden Hours: 300. We have submitted a copy of this notice to OMB for its review of these information collections. A notice will be published in the Federal Register when approval is obtained.

To obtain copies of the supporting statement and any related forms for the proposed paperwork collections referenced above, access CMS's Web site address at http://cms.hhs.gov/regulations/pra/default.asp or e-mail your request, including your address, phone number, OMB number, and CMS document identifier, to Paperwork@hcfa.gov, or call the Reports Clearance Office on (410) 786-1326.

Interested persons are invited to send comments regarding the burden or any other aspect of these collections of information requirements. However, as noted above, in order to be considered in the OMB approval process, comments on these information collection and recordkeeping requirements must be mailed and/or faxed to the designees referenced below, by April 7, 2003.

Centers for Medicare and Medicaid Services, Office of Strategic Operations and Regulatory Affairs, Division of Regulations Development and Issuances, Attn: Reports Clearance Officer, Room C5-16-03, 7500 Security Boulevard, Baltimore, MD 21244-1850. Fax Number: (410) 786-3064. Attn: Julie Brown;

and,

Office of Information and Regulatory Affairs, Office of Management and Budget, Room 10235, New Executive Office Building, Washington, DC 20503, Fax Number: (202) 395-6974 or (202) 395-5167, Attn: Brenda Aguilar, CMS Desk Officer.

Solicitation: This notice also serves as an announcement for solicitation of applications for the grants, as follows:

Title of Grant: The Demonstration to Improve the Direct Service Workforce

Authority: The Demonstration to Improve the Direct Services Workforce is authorized by the President's Executive Order 13217, “Community-Based Alternatives for Individuals with Disabilities.” The Demonstration is part of the President's New Freedom Initiative, which calls for the removal of barriers to community living for people with disabilities. CMS is the designated HHS agency with administrative responsibility for this program.

Who Is Eligible to Apply: Two types of State agencies in eligible States may apply: (a) The Single State Medicaid Agency or (b) any other agency or instrumentality of a State (as determined under State law). In addition, community-based organizations that provide some combination of direct services, education, training and/or outreach are eligible to apply.

By “State” we refer to the definition provided under 45 CFR 74.2 as “any of the several States of the United States, the District of Columbia, the Commonwealth of Puerto Rico, any territory or possession of the United States, or any agency or instrumentality of a State exclusive of local governments.” “Territory or possession” is defined as Guam, the United States Virgin Islands, American Samoa, and the Commonwealth of the Northern Mariana Islands.

For purposes of this grant program, community-based organizations must have a clearly defined mission of community service, be established under state law, and have a formalized financial structure with the capacity for tracking and reporting on grant funds. Examples of organizations that might want to consider applying include Independent Living Centers (ILCs), consumer associations, community-outreach programs, assertive-community treatment providers, workforce development programs and others. Community-based providers possess an often-underutilized source of knowledge, expertise and commitment for identifying and supporting direct service workers.

Amount and Timing of Awards: The demonstration projects may last for 36 months. CMS intends to offer $6 million in funding nationally in FY 2003 and an additional $3 million in funding in FY 2004. CMS will announce the first grant awards in October of 2003. The grant period for this solicitation will run 36 months from October 1, 2003 through September 30, 2006. The maximum grant award will be $1.5 million per state agency or $750,000 per coalition or non-governmental applicant.

Purpose: The purpose of this demonstration program is to develop and implement programs that will increase the pool of direct care service workers, who help support people with disabilities in the community, through recruitment and retention strategies. Examples of potentially fundable demonstration programs may focus on: wage or time-off incentives, continuing education, outreach to underserved populations, cultural or logistical barriers. This list is not meant to be comprehensive. Entities applying for the demonstration program are encouraged to submit their own ideas for recruitment and retention of direct care service workers.

For Additional Information: An application kit containing all instructions and forms needed to apply for The Demonstration to Improve the Direct Services Workforce can be downloaded from the New Freedom Initiative Web site at: http://www.cms.hhs.gov/newfreedom/default.asp. If an organization does not have access to the Internet, an application kit may be obtained by writing: Attn: Marian Webb, Centers for Medicare and Medicaid Services, OICS, AGG, Grants Management Staff, Mailstop C2-21-15, 7500 Security Boulevard, Baltimore, Maryland 21244-1850. E-mail: MWebb@cms.hhs.gov.

Questions about CMS's announcement or application package can be directed to: Carey O'Connor Appold, Center for Medicare and Medicaid Services, Center for Medicaid and State Operations, Disabled and Elderly Health Programs Group, Room S2-14-26, 7500 Security Boulevard, Baltimore, MD 21244-1850, (410) 786-2117, e-mail: COconnor2@cms.hhs.gov. Applications must be mailed or hand-delivered by Friday, June 20, 2003. Applications mailed through the U.S. Postal Service or a commercial delivery service will be considered on time if they are received in CMS's Grants Office or postmarked by this date. Submissions by facsimile (fax) transmission will not be accepted. An original proposal should be sent with seven copies to: Attn: Marian Webb, Centers for Medicare and Medicaid Services, OICS, AGG, Grants Management Staff, Mai 500 Security Boulevard, Baltimore, Maryland 21244-1850.

Dated: March 13, 2003.
Julie Brown,
Acting CMS Reports Clearance Officer, Office of Strategic Operations and Strategic Affairs, Division of Regulations Development and Issuances.

[FR Doc. 03-6650 Filed 3-19-03; 8:45 am]

BILLING CODE 4120-03-P